DEPARTMENT OF HEALTH AND HUMAN SERVICES

Centers for Disease Control and Prevention

[Program Announcement 02109]

War-Related Mental Health and Trauma Assessment Program; Notice of Availability of Funds

A. Purpose

The Centers for Disease Control and Prevention (CDC) announces the availability of fiscal year (FY) 2002 funds for a cooperative agreement program to increase the understanding of war-related mental health and trauma morbidity in countries which have experienced complex emergencies.

The purpose of this program is to conduct innovative assessments of mental health and trauma related morbidity in complex emergency affected countries. This program will help to establish an improved understanding of the burden of war-related trauma and mental health morbidity in refugee populations, and how these effects may be mitigated.

Measurable outcomes of the program will be in alignment with the following performance goal for the National Center for Environmetal Health: Increase the understanding of the relationship between environmental exposures and health effects.

B. Authority and Catalog of Federal Domestic Assistance Number

This program is authorized under sections 301, 307, and 317 of the Public Health Service Act, [42 U.S.C. 241 and 247b], as amended. The Catalog of Federal Domestic Assistance number is 93.283.

C. Eligible Applicants

Assistance will be provided to university-based organizations or organizations with significant research capacity, including faith-based organizations. Eligible organizations will have:

1. Three years expertise in refugee health, landmine/war-related injuries, mental health and psycho-social trauma related to conflict, in at least four international settings.

2. Three years experience in conducting mental health and trauma related studies in populations affected by war and displacements in at least two less developed countries.

3. A history of publication in peer-reviewed literature in the fields of psycho-social trauma and mental health related to war in less developed countries.

Note: Title 2 of the United States Code, Section 1611, states that an organization described in section 501(c)(4) of the Internal Revenue Code that engages in lobbying activities is not eligible to receive Federal funds constituting an award, grant, or loan.

D. Availability of Funds

Approximately $250,000 is available in FY 2002 to fund up to two awards. The average award will be $75,000 to $150,000. It is expected that awards will begin on or about October 1, 2002 and will be made for a 12-month budget period within a project period of up to 3 years. Funding estimates may change.

Matching funds are not required for this program.

Continuation awards within an approved project period will be made on the basis of satisfactory progress as evidenced by required reports and the availability of funds.

Use of Funds

1. All requests for funds, including the budget contained in the application, shall be stated in U.S. dollars. Once an award is made, the Department of Health and Human Services (DHHS) will not compensate foreign grantees for currency exchange fluctuations through the issuance of supplemental awards.

2. Funds may be spent for reasonable program purposes, including personnel, travel, supplies, and services. Equipment may be purchased if deemed necessary to accomplish program objectives, however, the International Emergency Refugee Health Branch (IERHB) must be notified in advance of such purchases.

3. The costs that are generally allowable in grants to domestic organizations are likewise allowable to foreign institutions and international organizations.

4. The majority of funds are expected to directly support costs associated programs conducted under this announcement.

E. Program Requirements

In conducting activities to achieve the purpose of this program, the recipient will be responsible for the activities under 1. Recipient Activities, and CDC will be responsible for the activities listed under 2. CDC Activities.

1. Recipient Activities

a. Conduct an innovative assessment of:

(1) Psycho-social trauma related to war in a less developed country; and/or,

(2) Mental health morbidity related to war in a less developed country.

b. Present and disseminate findings from program activities so as to add to the body of knowledge and methods related to mental health and trauma related to war in less developed countries by publishing in peer-reviewed literature.

c. Make recommendations for future research needed to adequately describe the burden of psycho-social trauma related to war in less developed countries.

2. CDC Activities

a. Provide consultation and assistance, as needed, in planning and implementing psycho-social trauma and mental health related assessments.

b. Collaborate on the epidemiologic analysis and the preparation and presentation of findings from assessments.

F. Content

The Program Announcement title and number must appear in the application. Use the information in the Program Requirements, Other Requirements, and Evaluation Criteria sections to develop the application content. Your application will be evaluated on the criteria listed, so it is important to follow them in laying out your program plan. The narrative should be no more than 25 pages, double spaced, printed on one side, with one inch margins, and unreduced font.

The narrative should consist of, at a minimum, a Plan, Objectives, Methods, Evaluation and Budget.

In completing the application, the applicant should:

1. Concisely state the understanding of the objectives and program intent, problems, complexities, and interactions required of this cooperative agreement.

2. Present a plan and approach for carrying out the assessment of psycho-social trauma and/or mental health assessments in war-affected less developed countries.

3. Describe their experience in conducting similar work.

4. Identify the professional personnel to be assigned to this project and their commitment to this effort, and describe the support staff services to be provided.

5. Provide first year budget estimates for addressing each of the activities described.

G. Submission and Deadline

Submit the original and two copies of PHS 5161-1 (OMB Number 0920-0428). Forms are available in the application kit and at the following Internet address: http:www.cdc.gov/od/pgo/forminfo.htm.

Application forms must be submitted in the following order:

Cover Letter

Table of Contents

Application

Budget Information Form

Budget Justification

Checklist

Assurances

Certifications

Disclosure Form

HIV Assurance Form (if applicable)

Human Subjects Certification (if applicable)

Narrative

The application must be received by 5 p.m. Eastern Time August 9, 2002. Submit the application to: Technical Information Management, Procurement and Grants Office, Centers for Disease Control and Prevention, 2920 Brandywine Rd, Room 3000, Atlanta, GA 30341-4146.

Deadline: Applications shall be considered as meeting the deadline if they are received before 5 p.m. Eastern Time on the deadline date. Applicants sending applications by the United States Postal Service or commercial delivery services must ensure that the carrier will be able to guarantee delivery of the application by the closing date and time. If an application is received after closing due to (1) “carrier error”, when the carrier accepted the package with a guarantee for delivery by the closing date and time, or (2) “significant weather delays or natural disasters”, CDC will upon receipt of proper documentation, consider the application as having been received by the deadline.

Applicants will be notified of their failure to meet the submission requirements.

H. Evaluation Criteria

Applicants are required to provide Measures of Effectiveness that will demonstrate the accomplishment of the identified objectives of the cooperative agreement. Measures of effectiveness must relate to the performance goal stated in section “A. Purpose” of this announcement. Measures must be objective and quantitative and must measure the intended outcome. These measures of effectiveness shall be submitted with the application and shall be an element of evaluation.

Each application will be evaluated individually against the following criteria by an independent review group appointed by CDC:

1. Understanding of the problem (25 percent)

The extent to which the applicant demonstrates a clear, concise understanding of the nature of the problem to be addressed. This includes a description of the public health importance of the planned activities to be undertaken, and realistic presentation of proposed objectives.

2. Technical approach (25 percent)

The extent to which the applicant's proposed activities form a logical strategy, including a reasonable activity time line, and measurable management and effectiveness and data analysis steps.

3. Ability to carry out the project (25 percent)

The extent to which the applicant provides evidence of its technical ability to carry out the proposed project.

4. Personnel (25 percent)

The extent to which professional personnel involved in this project are qualified, including evidence of experience similar to this project.

5. Budget (not scored)

The extent to which itemized budget for conducting the project, along with justification, is reasonable and consistent with stated objectives and planned program activities.

6. Human Subjects (not scored)

The applicant must state if there is a need of human subjects review and describe a plan for the review of their proposed project by an accredited review board. The CDC Institutional Review Board (IRB) will review and approve the protocol initially and on at least an annual basis until the research project is completed.

I. Other Requirements

Technical Reporting Requirements

Provide CDC with original plus two copies of

1. Semi-annual progress reports. The progress report will include a data requirement that demonstrates measures of effectiveness.

2. Financial status report, no more than 90 days after the end of the budget period.

3. Final financial and performance reports, no more than 90 days after the end of the project period.

Awardee is required to obtain an annual audit of these CDC funds (program specific audit) by a U.S. based audit firm with international branches and current license/authority in-country, and in accordance with International Accounting Standards or equivalent.

A fiscal Recipient Capability Assessment may be required, pre-award or post-award, with the potential awardee in order to review their business management and fiscal capabilities regarding the handling of U.S. Federal funds. Send all reports to the Grants Management Specialist identified in the “Where to Obtain Additional Information” section of this announcement in the application kit.

The following additional requirements are applicable to this program.

AR-1 Human Subjects

AR-7 Executive Order 12372 Review

AR-8 Public Health System Reporting Requirements

AR-10 Smoke-Free Workplace Requirements

AR-11 Healthy People 2010

AR-12 Lobbying Restrictions

AR-14 Accounting

J. Where to Obtain Additional Information

This and other CDC announcements, and the necessary application and associated forms can be found on the CDC home page Internet address— http://www.cdc.gov Click on “Funding” then “Grants and Cooperative Agreements.”

To obtain business management technical assistance, contact: Vincent Falzone, Grants Management Specialist, Grants Management Branch, Procurement and Grants Office, Centers for Disease Control and Prevention, 2920 Brandywine Road, Room 3000, Atlanta, GA 30341-4146, Telephone number: 770-488-2763, Email address: vfalzone@cdc.gov.

For program technical assistance, contact: Barbara Lopes Cardozo, International Emergency Refugee Health Branch, Division of Emergency and Environmental Health Services, National Center for Environmental Health, Centers for Disease Control and Prevention, 4770 Buford Highway, NE (F-48), Atlanta, GA 30341, Telephone number: (770) 488-4138, Email address: BLopesCardozo@cdc.gov.

Dated: June 29, 2002.
Sandra R. Manning,
CGFM, Director, Procurement and Grants Office, Centers for Disease Control and Prevention.

[FR Doc. 02-16938 Filed 7-5-02; 8:45 am]

BILLING CODE 4163-18-P